FEDERAL COMMUNICATIONS COMMISSION

47 CFR Part 73

[MB Docket No. 22-347; RM-11932; DA 23-826; FR ID 171264]

Television Broadcasting Services Lincoln, Nebraska

AGENCY: Federal Communications Commission.

ACTION: Final rule.

SUMMARY: On September 26, 2022, the Federal Communications Commission's Media Bureau, Video Division (Bureau) issued a Notice of Proposed Rulemaking (NPRM) in response to a petition for rulemaking filed by The University of Nebraska (Petitioner), the licensee of noncommercial educational (NCE) television station KUON-TV (KUON-TV or Station), channel *12, Lincoln, Nebraska, requesting the substitution of UHF channel *27 for VHF channel *12 at Lincoln in the Table of TV Allotments. For the reasons set forth in the Report and Order referenced below, the Bureau amends FCC regulations to substitute channel *27 for channel *12 at Lincoln.

DATES: Effective September 15, 2023.

FOR FURTHER INFORMATION CONTACT: Emily Harrison, Media Bureau, at (202) 418-1665 or Emily.Harrison@fcc.gov.

SUPPLEMENTARY INFORMATION: The proposed rule was published at 87 FR 60956 on October 7, 2022. The Petitioner filed comments in support of the petition, as required by the Commission's rules reaffirming its commitment to apply for channel *27. As described in the Report and Order, comments were filed by Flood Communications of Omaha, LLC (Flood) in opposition to the Petition, but such comments were ultimately withdrawn in favor of a settlement agreement between Petitioner and Flood. See Letter from Barbara A. Kreisman, Chief, Video Division, Media Bureau, to Derek Teslik, Esq. and Seth Williams, Esq. (Sept. 8, 2023).

The Bureau believes the public interest would be served by substituting channel *27 for channel *12 at Lincoln, Nebraska. In support of its channel substitution request, the Petitioner states that the Station has a history of severe reception problems as a result of its operation on a VHF channel. The Petitioner also discussed the challenges and characteristics of VHF channels that have been recognized by the Commission regarding viewer reception. The Petitioner asserts that the proposed channel substitution will improve viewers' access to the Station's PBS and other public television programming by improving reception issues. According to the Petitioner, although the channel *27 facilities would result in a reduction in the Station's predicted population served within its noise limited service contour, almost all of the predicted loss area is served by other PBS stations licensed to communities in Nebraska and Iowa, which largely air the same NCE programming as KUON-TV. According to the Petitioner, once terrain-limitations are factored into the analysis, the new loss area that would be created by the proposed channel substitution would contain only 342 persons, which it asserts is de minimis. Although the Petitioner's proposal would result in a loss of PBS network programming to a limited number of viewers, the Bureau finds that the overall benefits of the proposed channel change by resolving reception issues outweighs any possible harm to the public interest.

This is a synopsis of the Commission's Report and Order, MB Docket No. 22-347; RM-11932; DA 23-826, adopted September 8, 2023, and released September 8, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622, in paragraph (j), amend the Table of TV Allotments, under Nebraska, by revising the entry for Lincoln to read as follows:

§ 73.622 digital television table of allotments.

* * * * *

(j) * * *

Community | Channel No.
* * * * *
Nebraska
* * * * *
Lincoln | 8, 10, 15, *27
* * * * *

[FR Doc. 2023-19983 Filed 9-14-23; 8:45 am]

BILLING CODE 6712-01-P